COMMISSION ON CIVIL RIGHTS

Sunshine Act Notice

Date and Time: Friday, July 28, 2006. 9:30 a.m.

Place: U.S. Commission on Civil Rights, 624 9th Street, NW., Room 540, Washington, DC 20425.

Status:

Briefing Agenda

Commission Briefing: The Benefits of Diversity in Elementary and Secondary Education.

• Introductory Remarks by Chairman.

• Speaker's Presentations.

• Questions by Commissioners and Staff Director.

Agenda

I. Approval of Agenda.

II. Approval of Minutes of July 5, 2006 Meeting.

III. Announcements.

IV. Staff Director's Report.

V. Program Planning.

• Motion to Keep the Record Open on the Briefing on the Benefits of Diversity in Elementary and Secondary Education.

• Proposed Briefing on the United States Naval Academy's Use of Religious and Racial Preferences in Placement of Cadets with Local Sponsors.

• Briefing Report on Campus Anti-Semitism.

• Proposal Poster for Campus Anti-Semitism Public Education Campaign.

VI. Management and Operations

• Fiscal Year 2008 Budget.

• Strategic Planning.

• Proposed Policy for Commissioner Evaluation of Draft Report.

• Proposed Policy of Peer Review for Draft Reports.

• Proposed Regulation on Outside Employment.

VII. State Advisory Committee Issues.

• Recharter Package for the Connecticut State Advisory Committee.

• Recharter Package for the California State Advisory Committee.

VIII. Future Agenda Items.

FOR FURTHER INFORMATION CONTACT: Audrey Wright, Office of the Staff Director, (202) 376-7700.

David P. Blackwood,
General Counsel.

[FR Doc. 06-6407 Filed 7-19-06; 9:12 am]

BILLING CODE 6335-01-M